BROADCASTING BOARD OF GOVERNORS

Performance Review Board

AGENCY: Broadcasting Board of Governors (BBG).

SUMMARY: Title 5 United States Code, Section 4314, requires that notice of the appointment of an individual to serve as a member of a performance review board shall be published in the Federal Register.

DATES: Effective Date: February 9, 2006.

ADDRESSES: Broadcasting Board of Governors, 330 Independence Ave., SW., Washington, DC 20237.

FOR FURTHER INFORMATION CONTACT: John S. Welch, Director; Office of Human Resources: Broadcasting Board of Governors; telephone (202) 619-3763.

The following individuals have been appointed to serve as PRB members for the BBG: Jill M. Crumpacker, George A. Moore, and Christopher Warner.

Dated: February 9, 2006.
Carol Booker,
Legal Counsel.

[FR Doc. 06-1449 Filed 2-15-06; 8:45 am]

BILLING CODE 8230-01-M